DEPARTMENT OF ENERGY

Federal Energy Regulatory Commission

Notice of Draft License Application and Preliminary Draft Environmental Assessment (PDEA) and Request for Preliminary Terms and Conditions

May 10, 2000.

Take notice that the following hydroelectric application has been filed with the Commission and is available for public inspection:

a. Type of Application: New Major License.

b. Project No.: 309-000.

c. Applicant: Sithe Pennsylvania Holdings LLP.

d. Name of Project: Piney.

e. Location: On the Clarion River, in Clarion County, Pennsylvania.

f. Applicant Contact: Thomas Teitt, Sithe Northeast, 1001 Broad St., Johnstown, PA 15907-1050.

g. FERC Contact: William Guey-Lee (202) 219-2808, Email: william.gueylee@ferc.fed.us.

h. Sithe Pennsylvania Holdings LLP mailed a copy of the PDEA to interested parties on April 28, 2000. The Commission received a copy of the PDEA on May 1, 2000. Copies of the documents are available from Sithe Pennsylvania Holdings LLP at the above address.

i. With this notice we are soliciting preliminary terms, conditions, recommendations, prescriptions, and comments on the PDEA and draft license application. All comments on the PDEA and draft license application should be sent to the address above in item (f) with one copy filed with the Commission at the following address: Federal Energy Regulatory Commission, David P. Boergers, Secretary, 888 First St. NE, Washington, DC 20426. All comments must include the project name and number, and bear the heading “Preliminary Comments,” “Preliminary Recommendations,” “Preliminary Terms and Conditions,” or “Preliminary Prescriptions.” Any party interested in commenting on the draft license application and the PDEA, must do so on or before July 26, 2000.

j. With this notice, we are initiating consultation with the STATE HISTORIC PRESERVATION OFFICER (SHPO), as required by Section 106, National Historic Preservation Act, and the regulations of the Advisory Council on Historic Preservation, 36 CFR 800.4.

David P. Boergers,
Secretary.

[FR Doc. 00-12224 Filed 5-15-00; 8:45 am]

BILLING CODE 6717-01-M